DEPARTMENT OF TRANSPORTATION

Surface Transportation Board

[Docket No. FD 35505]

Montreal, Maine & Atlantic Railway, Ltd.—Trackage Rights Exemption—Maine Northern Railway Company

Pursuant to a written trackage rights agreement, Maine Northern Railway Company (MNR) has agreed to grant overhead trackage rights to Montreal, Maine & Atlantic Railway, Ltd. (MMA) over approximately 151 miles of rail line owned by the State of Maine (the State) between milepost 109 near Millinocket, ME. and milepost 260 near Madawaska, ME (Subject Trackage).¹ MMA states that, as of January 14, 2011, it sold the Subject Trackage, together with certain other lines in Penobscot and Aroostook Counties, ME, to the State. The State has selected MNR to operate the Subject Trackage and the other lines, and MNR plans to file a notice for a modified certificate of public convenience and necessity under 49 CFR. 1150.23 for Board authority to operate these lines.

¹ The Subject Trackage was formerly part of the Madawaska Subdivision of MMA discussed in Montreal, Maine & Atlantic Railway, Ltd.-Discontinuance of Service and Abandonment-in Aroostook and Penobscot Counties, ME, Docket No AB 1043 (Sub-No. 1) (STB served Dec. 27, 2010). The instant transaction is an outgrowth of that case.

The transaction is scheduled to be consummated by June 14, 2011. Consummation may not occur prior to June 10, 2011, the effective date of the exemption (30 days after the exemption was filed).

The purpose of the transaction is to connect the MMA lines south of Millinocket and the MMA line beyond Madawaska. The trackage will enable MMA to provide through service between St Leonard, New Brunswick, where MMA and Canadian National Railway Company (CN) interchange, and the rest of MMA's rail system, including connections with the Canadian Pacific Railway Company and CN near Montreal and with the Pan Am Railways system at Northern Maine Junction, ME.

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by June 3, 2011 (at least 7 days before the exemption becomes effective).

An original and 10 copies of all pleadings, referring to Docket No. FD 35505, must be filed with the Surface Transportation Board, 395 E Street, SW., Washington, DC 20423-0001. In addition, a copy of each pleading must be served on James E. Howard, One Thompson Square, Suite 201, Charlestown, MA 02129.

Board decisions and notices are available on our Web site at http://www.stb.dot.gov.

Decided: May 24, 20011.
By the Board, Rachel D. Campbell, Director, Office of Proceedings.
Andrea Pope-Matheson,
Clearance Clerk.

[FR Doc. 2011-13248 Filed 5-26-11; 8:45 am]

BILLING CODE 4915-01-P